GENERAL SERVICES ADMINISTRATION

41 CFR Part 102-117

[FPMR Amendment G-116]

RIN 3090-AH16

Transportation Management; Correction

AGENCY: Office of Governmentwide Policy, GSA.

ACTION: Final rule; correction.

SUMMARY: This document corrects errors contained in a final rule appearing in Part V of the Federal Register of Friday, October 6, 2000 (65 FR 60060). The rule revised the Federal Property Management Regulations (FPMR) by moving coverage on transportation and traffic management into the Federal Management Regulation (FMR) and adding a cross-reference to the FPMR to direct readers to the coverage in the FMR.

EFFECTIVE DATE: October 6, 2000.

FOR FURTHER INFORMATION CONTACT: Elizabeth Allison, Transportation Management Policy Division (MTL), 202-219-1729.

SUPPLEMENTARY INFORMATION: In rule document 00-25130 beginning on page 60060 in the issue of Friday, October 6, 2000, make the following corrections:

§ 102-117.25 [Corrected]

1. On page 60062, in the first column, in § 102-117.25, in the definition of “Agency”, paragraph (4), correct “The Atomic Energy Commission” to read “The Nuclear Regulatory Commission”.

§ 102-117.140 [Corrected]

2. On page 60065, in the first column, in § 102-117.140, in the last line, correct the URL cite to read “e-mail: cargo@marad.dot.gov”.

§ 102-117.170 [Corrected]

3. On page 60065, in the third column, in § 102-117.170(b)(1), in the third line, remove the comma after “NW.”

§ 102-117.220 [Corrected]

4. On page 60066, in the second column, in § 102-117.220, in the eleventh line from the top of the column, correct “Note to § -117-220” to read “Note to § 102-117-220”.

§ 102-117.250 [Corrected]

5. On page 60067, in the first column, in § 102-117.250(b), in the thirteenth line, correct the URL site to read ­“http://www.kc.gsa.gov/fsstt”.

Dated: December 19, 2000.
Michael E. Hopkins,
Federal Acquisition Policy Division, Office of Governmentwide Policy.

[FR Doc. 00-32778 Filed 12-22-00; 8:45 am]

BILLING CODE 6820-24-P